DEPARTMENT OF TRANSPORTATION

Federal Aviation Administration

14 CFR Part 39

[Docket No. FAA-2007-29336; Directorate Identifier 2007-NM-143-AD; Amendment 39-15373; AD 2008-04-01]

RIN 2120-AA64

Airworthiness Directives; Airbus Model A300, A310, and A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * accidents which occurred to in-service aircraft caused by the violent opening of the passenger door related to excessive residual pressure in the cabin.

We are issuing this AD to require actions to correct the unsafe condition on these products.

DATES: This AD becomes effective March 19, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on September 28, 2007 (72 FR 55124). That NPRM proposed to correct an unsafe condition for the specified products. The MCAI states:

The present AD requires the flight crew to follow the instructions of the “emergency procedure check of delta P = 0” of the Aircraft Flight Manual (AFM) at the latest revision date.

This AD falls within the scope of a set of corrective measures developed by AIRBUS subsequent to accidents which occurred to in-service aircraft caused by the violent opening of the passenger door related to excessive residual pressure in the cabin. * * *

The corrective action is revising the Emergency Procedures sections of the AFMs to advise the flightcrew of new procedures for emergency evacuation. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 238 products of U.S. registry. We also estimate that it will take about 1 work-hour per product to comply with the basic requirements of this AD. The average labor rate is $80 per work-hour. Based on these figures, we estimate the cost of this AD to the U.S. operators to be $19,040, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-01 Airbus: Amendment 39-15373. Docket No. FAA-2007-29336; Directorate Identifier 2007-NM-143-AD.

Effective Date

(a) This airworthiness directive (AD) becomes effective March 19, 2008.

Affected ADs

(b) None.

Applicability

(c) This AD applies to Airbus Model A300, A310, and A300-600 series airplanes, certificated in any category, all certified models and all serial numbers.

Subject

(d) Air Transport Association (ATA) of America Code 21: Air conditioning.

Reason

(e) The mandatory continuing airworthiness information (MCAI) states:

The present AD requires the flight crew to follow the instructions of the “emergency procedure check of delta P = 0” of the Aircraft Flight Manual (AFM) at the latest revision date.

This AD falls within the scope of a set of corrective measures developed by AIRBUS subsequent to accidents which occurred to in-service aircraft caused by the violent opening of the passenger door related to excessive residual pressure in the cabin. * * *

The corrective action is revising the Emergency Procedures sections of the AFMs to advise the flightcrew of new procedures for emergency evacuation.

Actions and Compliance

(f) Within 30 days after the effective date of this AD, unless already done, do the following actions.

(1) For Model A300 series airplanes without modification 10002 installed, revise the Emergency Procedures sections of the AFM to include the following statement. This may be done by inserting a copy of this AD into the AFM.

“EMERGENCY EVACUATION |
AIRCRAFT/PARKING BRAKE | Stop/Set.
ATC (VHF 1) | Notify.
Cabin crew | Notify.
EMER EXIT LT | ON.
BOTH FUEL LEVERS | OFF.
FIRE handles (ENG and APU) | Pull.
AGENTS (ENG and APU) | as rqrd.
RAM AIR INLET | Open.
Before opening doors:
ΔP (DIFF PRESS) | Check zero.
• If evacuation required:
Evacuation | Initiate.
• If evacuation not required:
CABIN CREW and PASSENGERS | Notify”.

(2) For Model A300 series airplanes on which modification 10002 is installed, revise the Emergency Procedures sections of the AFM to include the following statement. This may be done by inserting a copy of this AD into the AFM.

“EMERGENCY EVACUATION (Mod 10002) |
AIRCRAFT/PARKING BRAKE | Stop/Set.
ATC (VHF 1) | Notify.
Cabin crew | Notify.
EMER EXIT LT | ON.
CL LT | ON.
BOTH FUEL LEVERS | OFF.
FIRE handles (ENG and APU) | Pull.
AGENTS (ENG and APU) | as rqrd.
RAM AIR INLET | Open.
Before opening doors:
ΔP (DIFF PRESS) | Check zero.
• If evacuation required:
Evacuation | Initiate.
• If evacuation not required:
CABIN CREW and PASSENGERS | Notify”.

(3) For Model A310 and A300-600 series airplanes, revise the Emergency Procedures sections of the AFM to include the following information. This may be done by inserting a copy of this AD into the AFM.

“Before opening doors:
• IF DEPRESS VALVE selected in MAN mode:
—DEPRESS VALVE MAN CLT | Full Open.
—ΔP (Diff press) | Check zero.
• If evacuation required:
—Evacuation | Initiate.
—BAT (before leaving A/C) | OFF/R.
• If evacuation not required:
—CABIN CREW and PASSENGERS | Notify”.

Note 1: When the information described in paragraphs (f)(1), (f)(2), or (f)(3) has been included in the general revisions of the AFM, the general revisions may be inserted in the applicable AFM, and the copy of the AD may be removed from that AFM.

FAA AD Differences

Note 2: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0093 R1, dated April 17, 2007, for related information.

Material Incorporated by Reference

(i) None.

Issued in Renton, Washington, on February 4, 2008.
Kevin Hull,
Acting Manager, Transport Airplane Directorate, Aircraft Certification Service.

[FR Doc. E8-2587 Filed 2-12-08; 8:45 am]

BILLING CODE 4910-13-P